DEPARTMENT OF AGRICULTURE

Forest Service

Willamette Province Advisory Committee

AGENCY: Forest Service, USDA.

ACTION: Notice of meeting.

SUMMARY: The Willamette Province Advisory Committee (PAC) will meet in Eugene, Oregon. The purpose of the meeting is to discuss issues pertinent to the implementation of the Northwest Forest Plan (NFP) and to provide advice to federal land managers in the Province. The specific topics to be covered at the meeting include research and NFP projects in the Central Cascades Adaptive Management Area, initial results of the 2004 Province Implementation monitoring, and information sharing.

DATES: The meeting will be held June 17, 2004.

ADDRESSES: The meeting will be held at the Oregon Community Credit Union, 2880 Chad Drive, Eugene, Oregon. Send written comments to Neal Forrester, Willamette Province Advisory Committee, c/o Willamette National Forest, P.O. Box 10607, Eugene, Oregon 97440, (541) 225-6436 or electronically to nforrester@fs.fed.us.

FOR FURTHER INFORMATION CONTACT: Neal Forrester, Willamette National Forest, (541) 225-6436.

SUPPLEMENTARY INFORMATION: The meeting is open to the public. Committee discussion is limited to PAC members. However, persons who wish to bring matters to the attention of the Committee may file written statements with the PAC staff before or after the meeting. A public forum will be provided and individuals will have the opportunity to address the PAC. Oral comments will be limited to three minutes.

Dated: May 21, 2004.
Dallas J. Emch,
Forest Supervisor, Willamette National Forest.

[FR Doc. 04-11994 Filed 5-26-04; 8:45 am]

BILLING CODE 3410-11-M